DEPARTMENT OF COMMERCE

Economic Development Administration

Notice of Petitions by Producing Firms for Determination of Eligibility to Apply for Trade Adjustment Assistance

AGENCY: Economic Development Administration, Commerce.

ACTION: To Give Firms an Opportunity to Comment.

Petitions have been accepted for filing on the dates indicated from the firms listed below.

List of Petition Action by Trade Adjustment Assistance for Period 6/22/00-7/19/00
Firm name | Address | Date petition accepted | Product
BBFV Manufacturing Co., Inc | 557 Noland Avenue Grand Junction, CO 81501 | 22-Jun-2000 | Saddlery & harnesses for animals.
Hanover Lantern, Inc | 350 Kindig Lane, Hanover, PA 17331 | 26-Jun-2000 | Electric lamps and lighting fittings.
Thirteen Mile Lamb & Wool Co | 13000 Springhill Road, Belgrade, MT 59714 | 26-Jun-2000 | Lambs/sheep for wool and frozen meat cuts.
M & B Headwear Co., Inc | 2323 East Main Street, Richmond, VA 23223 | 28-Jun-2000 | Baseball caps.
Pokorny Sales & Mfg., Inc | 20 Tierney Road, Lake Hopatcong, NJ 07849 | 29-Jun-2000 | Automotive electrical relays.
Termix Manufacturing, Inc | 8633 Schumacher Lane, Houston, TX 77063 | 05-Jul-2000 | Hair brushes.
Flexon & Systems, Inc | 153 South Long Street, Lafayette, LA 70506 | 05-Jul-2000 | Bulk polypropolyne bags.
Buckingham Mfg Co., Inc | 1-11 Travis Avenue, Binghamton, NY 13902 | 11-Jul-2000 | Nylon and polyester harnesses, body belts, saddles, straps and metal connecting hardware for fall protection and rescue equipment.
Acme Engraving Co., Inc | 19-37 Delaware Avenue, Passaic, NJ 07005 | 19-Jul-2000 | Rotary screen and metal cylinders for the apparel and wall covering industry.
Wexco Corporation | 1015 Dillard Drive, Lynchburg, VA 24502 | 19-Jul-2000 | Bimetallic cylinders for injection molding machines.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, D.C. 20230, no later than the close of business of the tenth calendar day following the publication of this notice.

The Catalog of Federal Domestic Assistance official program number and title of the program under which these petitions are submitted is 11.313, Trade Adjustment Assistance.

Dated: July 19, 2000.
Anthony J. Meyer,
Coordinator, Trade Adjustment and Technical Assistance.

[FR Doc. 00-18856 Filed 7-25-00; 8:45 am]

BILLING CODE 3510-24-P